DEPARTMENT OF JUSTICE

Antitrust Division

Notice Pursuant to the National Cooperative Research and Production Act of 1993—DVD Copy Control Association

Notice is hereby given that, on May 31, 2013, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Hakuto Taiwan Ltd., Taipei, TAIWAN, has been added as a party to this venture.

Also, Dongguan ChuDong Electronic Technology Co., Ltd., Guangdong, People's Republic of China; Huizhou Aihua Multimedia Co., Ltd., Guangdong, People's Republic of China; and Kentec, Inc., Taipei, Taiwan, have withdrawn as parties to this venture.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on February 20, 2013. A notice was published in the Federal Register pursuant to Section 6(b) of the Act on March 21, 2013 (78 FR 17431).

Patricia A. Brink,
Director of Civil Enforcement, Antitrust Division.

[FR Doc. 2013-15641 Filed 6-28-13; 8:45 am]

BILLING CODE P